NUCLEAR REGULATORY COMMISSION

[NRC-2017-0123]

Memorandum of Understanding Between the Federal Bureau of Investigation and the U.S. Nuclear Regulatory Commission

AGENCY: Nuclear Regulatory Commission.

ACTION: Memorandum of understanding; issuance.

SUMMARY: The U.S. Nuclear Regulatory Commission (NRC) is issuing a Memorandum of Understanding (MOU), dated March 21, 2017, between the U.S. Department of Justice (DOJ), Federal Bureau of Investigation (FBI) and the NRC. The MOU establishes and coordinates the roles, responsibilities, and functions between the two agencies regarding the accomplishment of firearms background checks on armed security personnel of NRC licensees, pursuant to Section 161A of the Atomic Energy Act of 1954, as amended (AEA).

DATES: The final MOU is available as of May 24, 2017.

ADDRESSES: Please refer to Docket ID NRC-2017-0123 when contacting the NRC about the availability of information regarding this document. You may obtain publicly-available information related to this document using any of the following methods:

• Federal Rulemaking Web site: Go to http://www.regulations.gov and search for Docket ID NRC-2017-0123. Address questions about NRC dockets to Carol Gallagher; telephone: 301-415-3463; email: Carol.Gallagher@nrc.gov. Address questions about this MOU to the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Amy Roundtree, Office of Administration; telephone: 301-415-7414, email: Amy.Roundtree@nrc.gov or Philip Brochman, Office of Nuclear Security and Incident Response; telephone: 301-287-3691, email: Phil.Brochman@nrc.gov; U.S. Nuclear Regulatory Commission, Washington, DC 20555-0001.

SUPPLEMENTARY INFORMATION:

I. Purpose

This notice is to advise the public, NRC licensees, and other interested stakeholders of the issuance of an MOU between the FBI and the NRC regarding the accomplishment of firearms background checks on armed security personnel of NRC licensees, pursuant to Section 161A of the AEA, “Use of Firearms by Security Personnel,” (42 U.S.C. 2201a). This MOU is entitled “Memorandum of Understanding on Implementation of Firearms Background Check Provisions Under Section 161A of the Atomic Energy Act of 1954, as amended, Revision 0.”

Under Section 161A of the AEA and Revision 1 to the Firearms Guidelines, security personnel whose official duties require access to covered weapons and who are engaged in the protection of Commission-designated facilities, radioactive material, or other property owned or operated by an NRC licensee shall be subject to a firearms background check. Revision 1 to the Firearms Guidelines was published by the NRC, with the approval of the U.S. Attorney General, on June 25, 2014 (79 FR 36100). The Firearms Guidelines provide direction to three Federal agencies (FBI, NRC, and the U.S. Bureau of Alcohol, Tobacco, Firearms, and Explosives) on the implementation of Section 161A of the AEA.

II. Relationship to Previous MOUs

This MOU addresses issues separate from two previous MOUs between the FBI and the NRC regarding “Cooperation Regarding Threat, Theft, or Sabotage in U.S. Nuclear Industry,” dated December 20, 1979 (44 FR 75535); and “Nuclear Threat Incidents Involving NRC-Licensed Facilities, Materials, and Activities,” dated May 16, 2000 (65 FR 31197). This MOU also addresses issues separate from a previous MOU between the DOJ and the NRC regarding “Coordination of Enforcement Activities and Exchange of Information Between the NRC and the Department of Justice,” dated December 14, 1988 (53 FR 50317).

III. Availability of Documents

The documents identified in the following table are available to interested persons through one or more of the following methods, as indicated.

Document | ADAMS accession No./Federal Register citation
Firearms Guidelines | 74 FR 46800; Sep 11, 2009.
Firearms Guidelines, Revision 1 | 79 FR 36100; Jun 25, 2014.
Memorandum of Understanding, Revision 0 | ML16215A117.

Dated at Rockville, Maryland, this 17 day of May, 2017.
For the Nuclear Regulatory Commission.
Sandra I. Schoenmann,
Acting Director, Division of Facilities and Security, Office of Administration.

[FR Doc. 2017-10641 Filed 5-23-17; 8:45 am]

BILLING CODE 7590-01-P